INTERNATIONAL TRADE COMMISSION

[Investigation No. 751-TA-3826]

Fresh Tomatoes From Mexico; Request for Comments Regarding the Institution of a Section 751(b) Review Concerning the Commission's Affirmative Determination and Continued Antidumping Duty Investigation

AGENCY: United States International Trade Commission.

ACTION: Notice.

SUMMARY: The Commission invites comments from the public on whether changed circumstances exist sufficient to warrant the institution of a review pursuant to section 751(b) of the Tariff Act of 1930 (19 U.S.C. 1675(b)) (the Act) regarding the Commission's affirmative determination and continued antidumping duty investigation in investigation No. 731-TA-747 (Fifth Review). The purpose of the proposed review would be to determine whether revocation of the existing suspension agreement on imports of fresh tomatoes from Mexico would be likely to lead to continuation or recurrence of material injury (19 U.S.C. 1675(b)(2)(A)).

DATES: June 18, 2025.

FOR FURTHER INFORMATION CONTACT: Lawrence Jones (202-205-3358), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this matter may be viewed on the Commission's electronic docket (EDIS) at http://edis.usitc.gov.

SUPPLEMENTARY INFORMATION: Background.—Effective November 1, 1996, the Department of Commerce (“Commerce”) suspended its antidumping duty investigation on imports of fresh tomatoes from Mexico (61 FR 56618). Effective the same day, the Commission suspended the final phase of its investigation (61 FR 58217, November 13, 1996). On October 1, 2001, Commerce initiated and the Commission instituted their first five-year reviews of the suspended investigations (66 FR 49926, 49975). After the withdrawal from the suspension agreement by certain Mexican tomatoe growers, Commerce terminated the suspension agreement (67 FR 50858, August 6, 2002), and both Commerce and the Commission terminated their first five-year reviews and resumed their antidumping investigations, effective July 30, 2002 (67 FR 53361, August 15, 2002; 67 FR 56854, September 5, 2002). On December 16, 2002, Commerce and the Commission suspended their resumed investigations when Commerce signed a new suspension agreement with certain growers/exporters of fresh tomatoes from Mexico (67 FR 77044, December 16, 2002; 67 FR 78815, December 26, 2002). On November 1, 2007, Commerce initiated and the Commission instituted their second five-year reviews of the suspended investigations (72 FR 61861, 61903, November 1, 2007). Once again, based on the withdrawal from the suspension agreement by certain Mexican tomato growers, Commerce terminated the suspension agreement (73 FR 2887, January 16, 2008), and both Commerce and the Commission terminated their second five-year reviews and resumed their antidumping investigations, effective January 18, 2008 (73 FR 2888, January 18, 2008; 73 FR 5869, January 31, 2008). The resumed antidumping investigations were again suspended by Commerce and the Commission when Commerce signed a new suspension agreement with certain growers/exporters of fresh tomatoes from Mexico, effective January 22, 2008 (73 FR 4831, January 28, 2008; 73 FR 7762, February 11, 2008). On December 1, 2012, Commerce initiated its third five-year review of the suspended investigation (77 FR 71684, December 3, 2012), and on December 3, 2012, the Commission instituted its third five-year review of the suspended investigation (77 FR 71629, December 3, 2012). Based on the withdrawal from the suspension agreement by certain Mexican tomato growers/exporters, Commerce terminated the suspension agreement and its third five-year review of the suspended investigation, and resumed its investigation, effective March 1, 2013 (78 FR 14771, March 7, 2013). On March 4, 2013, the Commission terminated its review of the suspended investigation and resumed the final phase of its investigation (78 FR 16529, March 15, 2013). Also on March 4, 2013, Commerce signed a new agreement with certain growers/exporters of fresh tomatoes from Mexico, and again suspended its resumed investigation (78 FR 14967, March 8, 2013). On March 5, 2013, the Commission suspended its resumed final phase investigation (78 FR 16530, March 15, 2013). On February 1, 2018, Commerce initiated and the Commission instituted their fourth five-year reviews of the suspended investigations (83 FR 4641, 4676, February 1, 2018). After receipt of a request by the Florida Tomato Exchange, an association of domestic growers and packers of fresh tomatoes and a petitioner in the original investigation, Commerce terminated the suspension agreement and resumed its investigation, effective May 13, 2019 (84 FR 20858, May 13, 2019). Also on May 7, 2019, the Commission terminated its review of the suspended investigation and resumed the final phase of its investigation (84 FR 21360, May 14, 2019; 84 FR 27805, June 14, 2019). On September 19, 2019, Commerce signed a new agreement with certain growers/exporters of fresh tomatoes from Mexico, and again suspended its resumed investigation (84 FR 49987, September 24, 2019). On September 24, 2019, the Commission suspended its resumed final phase investigation (84 FR 54639, October 10, 2019). Following requests submitted by the Florida Tomato Exchange and by Red Sun Farms Virginia LLC, Commerce resumed its final investigation and made an affirmative determination (84 FR 57401, October 25, 2019). On October 17, 2019, the Commission continued the final phase of its investigation (84 FR 56837, October 23, 2019) and, on December 9, 2019, made an affirmative determination (84 FR 67958, December 12, 2019). The Commission is currently conducting a full review of the 2019 Suspension Agreement. On April 14, 2025, Commerce announced that it intended to terminate the Suspension Agreement effective July 14, 2025.

On May 9, 2025, the Commission received a request to review its affirmative determination and continued antidumping duty investigation in investigation No. 731-TA-747 (Fifth Review) pursuant to section 751(b) of the Act (19 U.S.C. 1675(b)). The request was filed by the Bioparques de Occidente, S.A. de C.V.. Agricola La Primavera, S.A. de C.V., and Kaliroy Fresh, LLC (collectively, the “Bioparques Group” or “the Requestors”). The Requestors argue for the Commission and the parties to be allowed to continue the examination of the U.S. market for Fresh Tomatoes in the event that the Suspension Agreement is terminated on July 14, 2025, and the Commission determines to terminate the Full Review of the Suspension Agreement. The Requestors have further argued that there have been a number of significant changes since the Commission last examined the Fresh Tomatoes industry in 2019. The Requestors indicated that these changes include changes in customer preferences and demand that have resulted in a segmented market, significant investment by U.S. producers in Florida, and major U.S. grower investments in Mexico to supplement their U.S. production. The Requestors indicated that in the event that the ongoing Full Review is not terminated, they intend to withdraw their request for a Changed Circumstances Review.

Written comments requested.—Pursuant to section 207.45(b) of the Commission's Rules of Practice and Procedure, the Commission requests comments concerning whether the alleged changed circumstances are sufficient to warrant institution of a review to determine whether termination of the suspended investigation is likely to lead to continuation or recurrence of material injury.

Written submissions.—Comments must be filed with the Secretary to the Commission by July 18, 2025. All written submissions must conform with the provisions of § 201.8 of the Commission's rules; any submissions that contain business proprietary information must also conform with the requirements of §§ 201.6, 207.3, and 207.7 of the Commission's rules. The Commission has not included a process for access to business proprietary information pursuant to an administrative protective order during the pre-institution comment period in this proceeding (See 56 FR 11918, 11922 (March 21, 1991)). In the event that the Commission finds sufficient changed circumstances to warrant institution of a review investigation following the comment period, access to business proprietary information under an administrative protective order will be available at that time. The Commission's Handbook on Filing Procedures, available on the Commission's website at https://www.usitc.gov/documents/handbook_on_filing_procedures.pdf, elaborates upon the Commission's procedures with respect to filings.

Please note the Secretary's Office will accept only electronic filings at this time. Filings must be made through the Commission's Electronic Document Information System (EDIS, https://edis.usitc.gov). No in-person paper-based filings or paper copies of any electronic filings will be accepted until further notice.

Authority: This notice is published pursuant to section 207.45 of the Commission's rules.

By order of the Commission.
Issued: June 16, 2025.
Susan Orndoff,
Supervisory Attorney.

[FR Doc. 2025-11226 Filed 6-17-25; 8:45 am]

BILLING CODE 7020-02-P